DEPARTMENT OF COMMERCE

International Trade Administration

[A-570-930, C-570-931]

Circular Welded Austenitic Stainless Pressure Pipe From the People's Republic of China: Continuation of Antidumping Duty Order and Countervailing Duty Order

AGENCY: Enforcement and Compliance, International Trade Administration, Department of Commerce.

SUMMARY: As a result of the determinations by the U.S. Department of Commerce (Commerce) and the U.S. International Trade Commission (ITC) that revocation of the antidumping duty (AD) order and countervailing duty (CVD) order on circular welded austenitic stainless pressure pipe (WSPP) from the People's Republic of China (China) would likely lead to the continuation or recurrence of dumping, countervailable subsidies, and material injury to an industry in the United States, Commerce is publishing a notice of continuation of these AD and CVD orders.

DATES: Applicable May 21, 2025.

FOR FURTHER INFORMATION CONTACT: Elizabeth Branson, Trade Agreements Policy and Negotiations, Enforcement and Compliance, International Trade Administration, U.S. Department of Commerce, 1401 Constitution Avenue NW, Washington, DC 20230; telephone: (202) 460-4453.

SUPPLEMENTARY INFORMATION:

Background

On March 17, 2009 and March 19, 2009, Commerce published in the Federal Register the AD order and CVD order, respectively, on WSPP from China.¹ On November 1, 2024, the ITC instituted,² and on November 4, 2024, respectively, Commerce initiated,³ the third sunset review of the Orders, pursuant to section 751(c) of the Tariff Act of 1930, as amended (the Act). As a result of its reviews, Commerce determined that revocation of the Orders would likely lead to the continuation or recurrence of dumping and countervailable subsidies, and therefore, notified the ITC of the magnitude of the margins of dumping and subsidy rates likely to prevail should the Orders be revoked.⁴

¹ See Antidumping Duty Order: Circular Welded Austenitic Stainless Pressure Pipe from the People's Republic of China, 74 FR 11351 (March 17, 2009); see also Circular Welded Austenitic Stainless Pressure Pipe from the People's Republic of China: Countervailing Duty Order, 74 FR 11712 (March 19, 2009) (collectively, Orders).

² See Welded Stainless Steel Pressure Pipe from China, Malaysia, Thailand, and Vietnam; Institution of Five-Year Reviews, 89 FR 87416 (November 1, 2024).

³ See Initiation of Five-Year (Sunset) Reviews, 89 FR 87543 (November 4, 2024).

⁴ See Circular Welded Austenitic Stainless Pressure Pipe from the People's Republic of China: Final Results of the Expedited Third Sunset Review of the Antidumping Duty Order, 90 FR 11507 (March 7, 2025), and accompanying Issues and Decision Memorandum (IDM); see also Circular Welded Austenitic Stainless Pressure Pipe from the People's Republic of China: Final Results of Expedited Third Sunset Review of the Countervailing Duty Order, 90 FR 11506 (March 7, 2025), and accompanying IDM.

On May 21, 2025, the ITC published its determination, pursuant to sections 751(c) and 752(a) of the Act, that revocation of the Orders would likely lead to continuation or recurrence of material injury to an industry in the United States within a reasonably foreseeable time.⁵

⁵ See Welded Stainless Steel Pressure Pipe from China, Malaysia, Thailand, and Vietnam, 90 FR 21790 (May 21, 2025) (ITC Final Determination).

Scope of the Orders

The merchandise covered by the Orders is circular welded austenitic stainless pressure pipe not greater than 14 inches in outside diameter. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications. Excluded from the scope are: (1) welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005; 7306.40.5040, 7306.40.5062, 7306.40.5064, and 7306.40.5085 of the Harmonized Tariff Schedule of the United States (HTSUS). They may also enter under HTSUS subheadings 7306.40.1010; 7306.40.1015; 7306.40.5042, 7306.40.5044, 7306.40.5080, and 7306.40.5090. The HTSUS subheadings are provided for convenience and customs purposes only, the written description of the scope of the Orders is dispositive.

Continuation of the Orders

As a result of the determinations by Commerce and the ITC that revocation of the Orders would likely lead to continuation or recurrence of dumping, countervailable subsidies, and material injury to an industry in the United States, pursuant to section 751(d)(2) of the Act, Commerce hereby orders the continuation of the Orders. U.S. Customs and Border Protection will continue to collect AD and CVD cash deposits at the rates in effect at the time of entry for all imports of subject merchandise.

The effective date of the continuation of the Orders will be May 21, 2025.⁶ Pursuant to section 751(c)(2) of the Act and 19 CFR 351.218(c)(2), Commerce intends to initiate the next five-year reviews of the Orders not later than 30 days prior to fifth anniversary of the date of the last determination by the ITC.

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: May 21, 2025.
Abdelali Elouaradia,
Deputy Assistant Secretary for Enforcement and Compliance.

[FR Doc. 2025-09565 Filed 5-27-25; 8:45 am]

BILLING CODE 3510-DS-P